DEPARTMENT OF EDUCATION

[CFDA NO. 84.328M]

Office of Special Education and Rehabilitative Services; Office of Special Education Programs

AGENCY: Department of Education.

ACTION: Reopening notice to invite applications for a new award to support a parent training and information center in the State of Oklahoma for Fiscal Year (FY) 2000.

SUMMARY: On April 28, 2000, a notice was published in the Federal Register (65 FR 25156) inviting applications for new FY 2000 awards to support parent training and information centers to ensure that parents of children with disabilities receive training and information to help improve results for their children.

In order to provide an opportunity for an applicant to resubmit its application based on current conditions and to provide an opportunity for additional applications, this notice invites additional applications for a parent training and information center that will serve parents of children with disabilities in the State of Oklahoma.

Deadline for Transmittal of Applications: September 13, 2000.

FOR FURTHER INFORMATION CONTACT: For further information on this notice contact Debra Sturdivant, U.S. Department of Education, 600 Independence Avenue, SW, room 3317, Switzer Building, Washington, DC 20202-2641. FAX: (202) 205-8717 (FAX is the preferred method for requesting information). Telephone: (202) 205-8038. Internet: Debra_Sturdivant@ed.gov.

If you use a TDD you may call the Federal Information Relay Service (FIRS) at 1-800-877-8339.

Individuals with disabilities may obtain this document in an alternate format (e.g., Braille, large print, audiotape, or computer diskette) on request to the contact persons listed in the preceding paragraph.

Individuals with disabilities may obtain a copy of the application package in an alternate format by contacting the Department as listed above. However, the Department is not able to reproduce in an alternate format the standard forms included in the application package.

Electronic Access to This Document

You may view this document, as well as all other Department of Education documents published in the Federal Register, in text or portable document format (PDF) on the internet at either of the following sites:

http://ocfo.ed.gov/fedreg.htm

http://www.ed.gov/news.html

To use PDF you must have Adobe Acrobat Reader, which is available free at either of the previous sites. If you have questions about using the PDF, call the U.S. Government Printing Office (GPO), toll free, at 1-888-293-6498; or in the Washington, DC., area at (202) 512-1530.

Note: The official version of this document is the document published in the Federal Register. Free Internet access to the official edition of the Federal Register and the Code of Federal Regulations is available on GPO Access at: http://www.access.gpo/nara/index.html.

Program Authority: 20 U.S.C. 1482.

Dated: August 31, 2000.
Curtis L. Richards,
Acting Assistant Secretary for Special Education and Rehabilitative Services.

[FR Doc. 00-22837 Filed 9-5-00; 8:45 am]

BILLING CODE 4000-01-P